DEPARTMENT OF HEALTH AND HUMAN SERVICES

Centers for Medicare & Medicaid Services

[Document Identifier CMS-10344]

Agency Information Collection Activities: Proposed Collection; Comment Request; Correction

AGENCY: Centers for Medicare & Medicaid Services (CMS), HHS.

ACTION: Correction of notice.

SUMMARY: This document corrects the information provided for [Document Identifier: CMS-10344] titled “Elimination of Cost-Sharing for Full Benefit Dual Eligible Individuals Receiving Home and Community-Based Services.”

FOR FURTHER INFORMATION CONTACT: William N. Parham, III, (410) 786-4669.

SUPPLEMENTARY INFORMATION:

I. Background

In the September 25, 2019, issue of the Federal Register (84 FR 50453), we published a Paperwork Reduction Act notice requesting a 60-day public comment period for the information collection request identified under CMS-10344, OMB control number 0938-1127, and titled “Elimination of Cost-Sharing for Full Benefit Dual Eligible Individuals Receiving Home and Community-Based Services.”

II. Explanation of Error

In the September 25, 2019, notice, the information provided in the first column, at the end of the second paragraph, on page 50455, was published with incorrect information in the “For policy questions” section. This notice corrects the language found in the “For policy questions” section in the first column, at the end of the second paragraph, on page 50455 of the September 25th notice. All of the other information contained in the September 25, 2019, notice is correct. The related public comment period remains in effect and ends November 25, 2019.

III. Correction of Error

In FR Doc. 2019-20858 of September 25, 2019 (84 FR 50453), page 50455, the language in the first column, at the end of the second paragraph begins with “[For policy questions and ends with “at 410-786-0668],” is corrected to read as follows:

[For policy questions regarding this collection contact Roland O. Herrera at 410-786-0668.)]

Dated: October 11, 2019.
William N. Parham, III,
Director, Paperwork Reduction Staff, Office of Strategic Operations and Regulatory Affairs.

[FR Doc. 2019-22726 Filed 10-17-19; 8:45 am]

BILLING CODE 4120-01-P